Title 3—

The President

Proclamation 9255 of April 13, 2015

National Equal Pay Day, 2015

By the President of the United States of America

A Proclamation

In the United States, the promise of opportunity is built on the idea that everyone who works hard should have the chance to get ahead. This creed is at the core of our democracy, and it is central to our belief that America does best when all people are able to share in our Nation's prosperity and contribute to our success. Yet every day, countless women perform the same work as their male colleagues only to earn less than their fair share. On National Equal Pay Day, we mark how far into the new year women would have to work just to earn the same as men did in the previous year, and we renew our efforts to end this injustice.

On average, full-time working women earn 78 cents for every dollar earned by men, and women of color face an even greater disparity. This wage gap puts women at a career-long disadvantage, and it harms families, communities, and our entire economy. Today, in more than half of all households, women are breadwinners—49 million children depend on women's salaries. But our economy and our policies have not caught up to this reality. When women experience pay discrimination it limits their future, and it also hurts the people they provide for. It means less for their families' everyday needs, for investments in their children's futures, and for their own retirements. These effects reduce our shared prosperity and restrict our Nation's economic growth. Wage inequality affects us all, and we each must do more to make certain that women are full and equal participants in our economy.

When we take action to help women succeed, we help America succeed, and my Administration is committed to ensuring women have every opportunity to reach their fullest potential. The first bill I signed as President was the Lilly Ledbetter Fair Pay Act, and the following year—to crack down on violations of equal pay laws—I created the National Equal Pay Task Force, which to date has helped women recover millions of dollars in lost wages. If workers do not know they are underpaid, they cannot challenge the inequality; that is why we are going to require Federal contractors to submit data on employee compensation, including data by sex and race, and why last year I signed an Executive Order prohibiting Federal contractors from retaliating against employees who choose to discuss their pay. And I continue to call on the Congress to pass the Paycheck Fairness Act to protect all people's fundamental right to a fair wage.

In the last half-century, our economy has changed in many ways for the better because of the increased participation of women. But our values are not yet fully reflected in how we pay women. We tell our daughters that in America there are no limits to what they can achieve—yet their mothers face persistent barriers to equality and success. We have to do better because our daughters deserve better. If we come together, we can change the policies and attitudes that hold women back, and we can fix this. On this day, we recommit to making equal pay a reality, and we continue our work to build a world where all our children are limited only by the size of their dreams and the power of their imaginations.

NOW, THEREFORE, I, BARACK OBAMA, President of the United States of America, by virtue of the authority vested in me by the Constitution and the laws of the United States, do hereby proclaim April 14, 2015, as National Equal Pay Day. I call upon all Americans to recognize the full value of women's skills and their significant contributions to the labor force, acknowledge the injustice of wage inequality, and join efforts to achieve equal pay.

IN WITNESS WHEREOF, I have hereunto set my hand this thirteenth day of April, in the year of our Lord two thousand fifteen, and of the Independence of the United States of America the two hundred and thirty-ninth.

[FR Doc. 2015-08956

Filed 4-15-15; 11:15 am]

Billing code 3295-F5